DEPARTMENT OF COMMERCE

National Oceanic and Atmospheric Administration

50 CFR Part 660

[I.D. 102903C]

RIN 0648-AP42

Fisheries Off West Coast States and in the Western Pacific; Highly Migratory Species

AGENCY: National Marine Fisheries Service (NMFS), National Oceanic and Atmospheric Administration (NOAA), Commerce.

ACTION: Notice of availability of a fishery management plan; request for comments.

SUMMARY: NMFS announces that the Pacific Fishery Management Council (Council) has submitted the Fishery Management Plan for U.S. West Coast Fisheries for Highly Migratory Species (FMP)for Secretarial review. The FMP is a response to increasing concern about the effect of fishing on highly migratory species (HMS) and on ocean resources caught incidentally to fishing HMS. Numerous species of tuna, billfish, oceanic sharks and other species range throughout the Pacific Ocean. A significant amount of information exists on some of the commercially important tunas, a moderate amount on other commercially important tunas, lesser amounts of information on swordfish and other billfishes, and scant information on sharks and other highly migratory fishes. Comprehensive stock assessments are needed for many of these species, which are harvested by numerous coastal and distant-water fishing nations throughout the Pacific.

DATES: Comments on the FMP must be received on or before January 5, 2004.

ADDRESSES: Comments on the FMP should be sent to Rodney R. McInnis, Acting Administrator, Southwest Region, NMFS, 501 West Ocean Boulevard, Suite 4200, Long Beach, CA 90802.

Copies of the FMP, which includes an environmental impact statement/regulatory impact review/initial regulatory flexibility analysis are available from Donald O. McIssac, Executive Director, Pacific Fishery Management Council, 7700 NE Ambassador Place, Suite 200, Portland, OR 97220.

FOR FURTHER INFORMATION CONTACT: James Morgan, Sustainable Fisheries Division, NMFS, at 562-980-4036 or Daniel Waldeck, Pacific Fishery Management Council, at 503-326-6352.

SUPPLEMENTARY INFORMATION: The Magnuson-Stevens Fishery Conservation and Management Act (Magnuson-Stevens Act) requires each Regional Fishery Management Council to submit a fishery management plan or plan amendment to NMFS for review and approval, disapproval, or partial approval. The Magnuson-Stevens Act also requires that NMFS, upon receiving a fishery management plan or plan amendment, immediately publish notification in the Federal Register that the fishery management plan or plan amendment is available for public review and comment. NMFS will consider the public comments received during the comment period described above in determining whether to approve, disapprove, or partially approve the FMP. The FMP, if approved, would implement conservation and management measures necessary for management of highly migratory species fisheries off the States of California, Oregon, and Washington. The FMP would provide a foundation for future management actions that might be necessary as the international and U.S. fisheries change. In summary, the FMP would:

1. Include in the management unit striped marlin, swordfish, common thresher shark, pelagic thresher shark, bigeye thresher shark, shortfin mako or bonito shark, blue shark, north Pacific albacore, yellowfin tuna, bigeye tuna, skipjack tuna, northern bluefin tuna, and dorado or dolphinfish, commonly referred to as mahi mahi in Hawaii;

2. Adopt harvest guidelines for common thresher shark and shortfin mako shark to reduce the possibility of localized depletion;

3. Require all commercial fishing vessels to have a permit to fish for HMS with an authorization for specific fishing gear;

4. Require all recreational charter (including commercial passenger carrying fishing vessels or CPFV in California) vessels to have a permit to fish for HMS;

5. Require all commercial and recreational charter vessels to maintain and submit logbooks to NMFS;

6. Incorporate under Magnuson-Stevens Act authority regulations currently issued under the Endangered Species Act and state authorities to limit fishing by drift gillnet vessels, except for the State of California limited entry program and Federal regulations that limit fishing to protect marine mammals. California would maintain its limited entry program under state regulations, and Federal regulations governing marine mammals would remain in place under Marine Mammal Protection Act authority;

7. Prohibit longline fishing in the Exclusive Economic Zone (EEZ) off the West Coast;

8. Apply to West Coast-based longline fishing vessels, when fishing outside the EEZ and west of 150° W. long., most of the restrictions that are currently applied to longline vessels fishing under the authority of longline limited entry permits issued pursuant to the Fishery Management Plan for the Pelagic Fisheries of the Western Pacific Region; and

9. Allow West Coast-based longline fishing vessels to make shallow sets targeting swordfish when fishing east of 150° W. long.

Public comments on the FMP must be received by January 5, 2004, to be considered by NMFS in the decision to approve, disapprove or partially approve the FMP. NMFS expects to publish and request public comment on the proposed regulations to implement the FMP in the near future.

Authority: 16 U.S.C. 1801 et. seq.

Dated: October 31, 2003.
Bruce C. Morehead,
Acting Director, Office of Sustainable Fisheries, National Marine Fisheries Service.

[FR Doc. 03-27994 Filed 11-5-03; 8:45 am]

BILLING CODE 3510-22-S